DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a pubic hearing, provided such request is filed in writing with the Director, Division of Trade Adjustment Assistance, at the address shown below, not later than March 22, 2004.

Interested persons are invited to submit written comments regarding the subject matter of the investigations to the Director, Division of Trade Adjustment Assistance, at the address shown below, not later than March 22, 2004.

The petitions filed in this case are available for inspection at the Office of the Director, Division of Trade Adjustment Assistance, Employment and Training Administration, U.S. Department of Labor, Room C-5311,ESHGO 200 Constitution Avenue, NW., Washington, DC 20210.

Signed at Washington, DC this 5th day of March 2004.
Timothy Sullivan,
Director, Division of Trade Adjustment Assistance.

Appendix
[Petitions Instituted Between 02/09/2004 and 02/13/2004
TA-W | Subject firm (petitioners) | Location | Date of institution | Date of petition
54,198 | Rockwell Automation (Wkrs) | Dublin, GA | 02/09/2004 | 02/03/2004
54,199 | Kincaid Furniture Co., Inc. (Comp) | Hudson, NC | 02/09/2004 | 01/09/2004
54,200 | Sanmina-SCI Corp. (IUE) | Richardson, TX | 02/09/2004 | 02/04/2004
54,201 | Avent, Inc. (Comp) | Ft. Worth, TX | 02/09/2004 | 02/02/2004
54,202 | Finishes First, Inc. (Comp) | Spruce Pine, NC | 02/09/2004 | 02/04/2004
54,203 | Coats American, Inc. (Comp) | Charlotte, NC | 02/09/2004 | 02/03/2004
54,204 | Missouri Steel Castings (IB) | Joplin, MO | 02/09/2004 | 02/05/2004
54,205 | Westling Manufacturing Co. (MN) | Princeton, MN | 02/09/2004 | 02/03/2004
54,206 | Baker Process/Bird Machine (Comp) | S. Walpole, MA | 02/09/2004 | 01/28/2004
54,207 | Irwin Industrial Tool (Comp) | Wilmington, OH | 02/09/2004 | 02/05/2004
54,208 | Davidson Industries, Inc. (Comp) | Mapleton, OR | 02/09/2004 | 02/05/2004
54,209 | Waterloo Industries, Inc. (Comp) | Muskogee, OK | 02/09/2004 | 02/04/2004
54,210 | Flynt Fabrics, Inc. (Wkrs) | Graham, NC | 02/09/2004 | 02/05/2004
54,211 | Intercraft Company, Inc. (Wkrs) | Taylor, TX | 02/09/2004 | 02/01/2004
54,212 | Timken (Comp) | Pulaski, TN | 02/09/2004 | 01/27/2004
54,213 | Broad Street Branded Warehouse, Inc. (Comp) | Gastonia, NC | 02/09/2004 | 12/17/2003
54,214 | Electronic Data Systems (CA) | Concord, CA | 02/09/2004 | 01/25/2004
54,215 | Taylor Togs, Inc. (Comp) | Bakersville, NC | 02/09/2004 | 02/04/2004
54,216 | Keystone Consolidated Ind., Inc. (Comp) | Peoria, IL | 02/09/2004 | 02/04/2004
54,217 | J.S. Technos Corp./Robert Bosch (Comp) | Russellville, KY | 02/10/2004 | 02/05/2004
54,218 | Phelps Dodge Industries (Comp) | El Paso, TX | 02/10/2004 | 02/06/2004
54,219 | Morse Automotive (Comp) | Cartersville, GA | 02/10/2004 | 02/06/2004
54,220 | National Textiles (Comp) | Galax, VA | 02/10/2004 | 02/05/2004
54,221 | Greif, Inc. (Comp) | Kingsport, TN | 02/10/2004 | 02/09/2004
54,222 | Rohm and Haas Co. (Wkrs) | Elma, WA | 02/10/2004 | 02/03/2004
54,223 | Ultra Tool (Comp) | Grantsburg, WI | 02/10/2004 | 02/09/2004
54,224 | Consolidated Ventura Telephones (AZ) | Tucson, AZ | 02/10/2004 | 02/06/2004
54,225 | Pradco Outdoor Brand (AR) | Hot Springs, AR | 02/10/2004 | 02/04/2004
54,226 | Plastic Research (AR) | Mulberry, AR | 02/10/2004 | 02/04/2004
54,227 | Glenshaw Glass Co. (CCS) | Glenshaw, PA | 02/10/2004 | 02/02/2004
54,228 | Bangor Hydro Electric Co. (ME) | Bangor, ME | 02/11/2004 | 01/15/2004
54,229 | Deluxe Global Media Services (CA) | Ontario, CA | 02/11/2004 | 01/29/2004
54,230 | Henlopen Mfg. (Comp) | Melville, NY | 02/11/2004 | 01/23/2004
54,231 | 411 Warehouse Corp. (Comp) | Madisonville, TN | 02/11/2004 | 01/23/2004
54,232 | R and R Hosiery Partner (Comp) | Rainsville, AL | 02/11/2004 | 01/22/2004
54,233 | Marko Foam Products, Inc. (Comp) | Corona, CA | 02/11/2004 | 01/28/2004
54,234 | BASF Corp. (Wkrs) | Morganton, NC | 02/11/2004 | 01/30/2004
54,235 | Electronic Data Systems (Wkrs) | Kokomo, IN | 02/11/2004 | 01/29/2004
54,236 | Motion Industries, Inc. (Wkrs) | Altoona, PA | 02/11/2004 | 02/09/2004
54,237 | Steelcase, Inc. (Comp) | Fletcher, NC | 02/11/2004 | 02/06/2004
54,238 | Saylor Industries (Wkrs) | Johnstown, PA | 02/11/2004 | 02/04/2004
54,239 | Heartland Rig International (Wkrs) | Brady, TX | 02/11/2004 | 02/09/2004
54,240 | Litchfield Fabrics of NC (Comp) | Gastonia, NC | 02/11/2004 | 02/04/2004
54,241 | Siemens Dematic (MI) | Grand Rapids, MI | 02/11/2004 | 02/10/2004
54,242 | Badger Paper Mill (Wkrs) | Peshtigo, WI | 02/11/2004 | 02/09/2004
54,243 | Tateishi of America, Inc. (Wkrs) | Pineville, NC | 02/11/2004 | 01/23/2004
54,244 | Southland Hosiery Co. (Wkrs) | Thomasville, NC | 02/11/2004 | 02/04/2004
54,245 | S and D Hosiery (Wkrs) | Locust, NC | 02/11/2004 | 02/05/2004
54,246 | Assurance Manufacturing, Inc. (MN) | Minneapolis, MN | 02/12/2004 | 02/11/2004
54,247 | Stitches Manufacturing, Inc. (Comp) | Huntingdon Vly., PA | 02/12/2004 | 01/30/2004
54,248 | KS Bearings, Inc. (UAW) | Greensburg, IN | 02/12/2004 | 02/12/2004
54,249 | VF Jeanswear Ltd. Partnership (Comp) | Irvington, AL | 02/12/2004 | 02/12/2004
54,250 | Valeo, Inc. (Comp) | Hampton, VA | 02/12/2004 | 01/30/2004
54,251 | Chatham and Borgstena (Comp) | Mt. Airy, NC | 02/12/2004 | 01/30/2004
54,252 | Central Coating and Assembly (Comp) | Mt. Pleasant, MI | 02/12/2004 | 02/10/2004
54,253 | Nixon Gear (NY) | Syracuse, NY | 02/12/2004 | 01/30/2004
54,254 | Newstech NY, Inc. (Comp) | Deferiet, NY | 02/12/2004 | 02/11/2004
54,255 | Imperial Schrade Corp. (NY) | Ellenville, NY | 02/12/2004 | 02/02/2004
54,256 | Aastra Telecom (Wkrs) | Lynchburg, VA | 02/12/2004 | 02/06/2004
54,257 | MCS Industries, Inc. (Comp) | Easton, PA | 02/12/2004 | 02/10/2004
54,258 | Just-A-Stretch of RI, Inc. (Wkrs) | Hope, RI | 02/12/2004 | 02/11/2004
54,259 | Leviton Mfg. (Comp) | Tualatin, OR | 02/13/2004 | 02/02/2004
54,260 | New Era Die Co. (Wkrs) | Red Lion, PA | 02/13/2004 | 02/12/2004
54,261 | Alkahn Labels (Wkrs) | Cochran, GA | 02/13/2004 | 02/12/2004
54,262 | Fluidmaster, Inc. (Comp) | San Juan Cap., CA | 02/13/2004 | 02/02/2004

[FR Doc. 04-5605 Filed 3-11-04; 8:45 am]

BILLING CODE 4510-30-M